ENVIRONMENTAL PROTECTION AGENCY

40 CFR Part 300

[FRL-7259-3]

National Oil and Hazardous Substance Pollution Contingency Plan; National Priorities List

AGENCY: Environmental Protection Agency.

ACTION: Removal of direct final notice of deletion amendment.

SUMMARY: On February 19, 2002, EPA published a notice of intent to delete (67 FR 7326) and a direct final notice of deletion (67 FR 7279) for a portion of the Joslyn Manufacturing and Supply Superfund Site from the National Priorities List. The EPA is removing the direct final notice of deletion amendment due to adverse comments that were received during the public comment period. After consideration of the comments received, EPA is publishing today a notice of deletion in the Federal Register based on the parallel notice of intent to delete. EPA will place a copy of the final deletion package, including a response to the comments (Responsiveness Summary) in the Site repositories.

EFFECTIVE DATE: This removal of the direct final notice of deletion amendment is effective as of August 16, 2002.

ADDRESSES: Comprehensive information on the Site, as well as the comments that were received during the comment period can be obtain from Dave Novak, Community Involvement Coordinator, U.S. EPA , P19J, 77 W. Jackson, Chicago, IL, (312) 886-7478 or 1-800-621-8431.

FOR FURTHER INFORMATION CONTACT: Gladys Beard, NPL Deletion Process Manager, U.S. EPA (SR-6J), 77 W. Jackson, Chicago, IL 60604, (312) 886-7253 or 1-800-621-8431.

SUPPLEMENTARY INFORMATION: Information Repositories: Repositories have been established to provide detailed information concerning this decision at the following address: U.S. EPA Region V Library, 77 W. Jackson, Chicago, IL 60604, (312) 353-5821, Monday through Friday 8 a.m. to 4 p.m.; Minnesota Pollution Control Agency 520 Lafayette, Saint Paul, Minnesota, Monday Through Friday, 8:00 to 4:30 p. m., (651) 296-6300.

List of Subjects in 40 CFR Part 300

Environmental protection, Air pollution control, Chemicals, Hazardous substances, Hazardous Waste, Intergovernmental relations, Penalties, Reporting and recordkeeping requirements, Superfund, Water pollution control, Water Supply.

Dated: August 6, 2002.
Bharat Mathur,
Acting Regional Administrator, EPA Region V.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B to Part 300—National Priorities List

2. Table 1 of Appendix B to Part 300 is amended under Minnesota “MN” by revising the entry for “Joslyn Manufacturing and Supply Co” to read as follows:

Table 1.—General Superfund Section
State | Site name | City/County | Notes
* * * * * * *
MN | Joslyn Manufacturing MN and Supply Co | Brooklyn Center |
* * * * * * *

[FR Doc. 02-20740 Filed 8-15-02; 8:45 am]

BILLING CODE 6560-50-P